DEPARTMENT OF COMMERCE

National Oceanic and Atmospheric Administration

50 CFR Part 224

[Docket No. 141216999-6999-02]

RIN 0648-XD669

Endangered and Threatened Wildlife and Plants: Notice of 12-Month Finding on a Petition To List the Gulf of Mexico Bryde's Whale as Endangered Under the Endangered Species Act (ESA); Reopening of Public Comment Period

AGENCY: National Marine Fisheries Service (NMFS), National Oceanic and Atmospheric Administration (NOAA), Commerce.

ACTION: Proposed rule; reopening of public comment period.

SUMMARY: On December 8, 2016, NMFS published a proposed rule to list the Gulf of Mexico Bryde's whale as an endangered species under the Endangered Species Act of 1973 (ESA), with comments due by February 6, 2017. However, in response to a request to extend the public comment period, NMFS has decided to reopen the public comment period by an additional 15 calendar days.

DATES: The deadline for receipt of comments on the proposed rule published on December 8, 2016 (81 FR 88639) is reopened from February 8, 2017 to February 23, 2017. NMFS must receive written comments and information on or before February 23, 2017.

ADDRESSES: You may submit comments, information, or data on this document, identified by docket number NOAA-NMFS-2014-0157 by any of the following methods:

• Electronic Submissions: Submit all electronic comments via the Federal eRulemaking Portal. Go to https://www.regulations.gov/docket?D=NOAA-NMFS-2014-0157, click the “Comment Now!” icon, complete the required fields, and enter or attach your comments;

• Mail: NMFS, Southeast Regional Office, 263 13th Avenue South, St. Petersburg, FL 33701;

• Hand delivery: You may hand deliver written information to our office during normal business hours at the street address given above.

Instructions: Comments must be submitted by one of the above methods to ensure they are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). The proposed rule, status review report, and other reference materials regarding this determination are available electronically at the NMFS Web site at: http://sero.nmfs.noaa.gov/protected_resources/brydes_whale/index.html.

FOR FURTHER INFORMATION CONTACT: Laura Engleby or Calusa Horn, NMFS, Southeast Regional Office (727) 824-5312 or Marta Nammack, NMFS, Office of Protected Resources (301) 427-8469.

SUPPLEMENTARY INFORMATION: On December 8, 2016, NMFS published a 12-month finding and proposed rule in the Federal Register (81 FR 88639) proposing to list the Gulf of Mexico Bryde's whale as an endangered species under the ESA. On December 20, 2016, we published a document in the Federal Register (81 FR 92760) correcting two errors made in the proposed rule regarding the scheduled close date of the public comment period and the reference number used to identify public comments submitted electronically through the Federal eRulemaking portal. The 60-day public comment period for the proposed rule ends on February 6, 2017. On January 25, 2017, representatives of potentially affected parties requested an extension of the public comment period to aid in their review of the proposed rulemaking. NMFS has considered the request and will reopen the comment period for 15 calendar days, from February 8, 2017 to February 23, 2017. This reopening provides a total of 75 days for public input and continuing Federal agency reviews to inform NMFS' final decision. NMFS refers the reader to the December 8, 2016, proposed rule (81 FR 88639) for background information concerning the proposed rulemaking as this notice does not repeat the information.

Dated: February 2, 2017.
Alan D. Risenhoover,
Acting Deputy Assistant Administrator for Regulatory Programs, National Marine Fisheries Service.

[FR Doc. 2017-02529 Filed 2-7-17; 8:45 am]

BILLING CODE 3510-22-P